DEPARTMENT OF TRANSPORTATION

Federal Aviation Administration

14 CFR Part 39

[Docket No. FAA-2007-28462; Directorate Identifier 2007-CE-056-AD; Amendment 39-15115; AD 2007-13-11]

RIN 2120-AA64

Airworthiness Directives; Eclipse Aviation Corporation Model EA500 Airplanes

AGENCY: Federal Aviation Administration (FAA), DOT.

ACTION: Final rule; correction.

SUMMARY: This document makes a correction to Airworthiness Directive (AD) 2007-13-11, which was published in the Federal Register on June 22, 2007 (72 FR 34363), and applies to Eclipse Aviation Corporation (Eclipse) Model EA500 airplanes. AD 2007-13-11 requires you to incorporate information into the Limitations section of the airplane flight manual (AFM) that will require operation only in day visual flight rules (VFR), allow only a VFR flight plan, and maintain operation with two pilots. The published AD references an incorrect docket of Docket No. FAA-2007-28432 instead of Docket No. FAA-2007-28462. This document corrects the docket number reference.

DATES: The effective date of this AD (2007-13-11) remains June 27, 2007.

FOR FURTHER INFORMATION CONTACT: Al Wilson, Flight Test Pilot, 2601 Meacham Blvd, Fort Worth, Texas 76137-4298; telephone: (817) 222-5146; fax: (817) 222-5960.

SUPPLEMENTARY INFORMATION:

Discussion

On June 14, 2007, the FAA issued AD 2007-13-11, Amendment 39-15115 (72 FR 34363, June 22, 2007), which applies to Eclipse EA500 airplanes. AD 2007-13-11 requires you to incorporate information into the Limitations section of the airplane flight manual (AFM) that will require operation only in day visual flight rules (VFR), allow only a VFR flight plan, and maintain operation with two pilots.

The published AD references an incorrect docket of Docket No. FAA-2007-28432 instead of Docket No. FAA-2007-28462.

Need for the Correction

This correction is needed to incorporate all docket information for this project into its own area in the Docket Management System (DMS).

Correction of Publication

Accordingly, the publication of June 22, 2007 (72 FR 34363), of Amendment 39-15115; AD 2007-13-11, which was the subject of FR Doc. E7-11933, is corrected as follows:

On page 34363, in the third column, in the fourth line, change “Docket No. FAA-2007-28432” to “Docket No. FAA-2007-28462.”

On page 34364, in the first column, on line 25 under ADDRESSES, change “Docket No. FAA-2007-28432” to “Docket No. FAA-2007-28462.”

On page 343645, in the third column, in the ninth and tenth lines under Comments Invited, change “Docket No. FAA-2007-28432” to “Docket No. FAA-2007-28462.”

§ 39.13 [Corrected]

On page 34365, in the first column, in the fifth and sixth lines of § 39.13, change “Docket No. FAA-2007-28432” to “Docket No. FAA-2007-28462.”

Action is taken herein to correct the docket number references and to add this AD correction to section 39.13 of the Federal Aviation Regulations (14 CFR 39.13).

The effective date remains June 22, 2007.

Issued in Kansas City, Missouri, on September 24, 2007.
Kim Smith,
Manager, Small Airplane Directorate, Aircraft Certification Service.

[FR Doc. E7-19193 Filed 9-28-07; 8:45 am]

BILLING CODE 4910-13-P